DEPARTMENT OF TRANSPORTATION

Federal Aviation Administration

14 CFR Part 71

[Docket No. FAA-2011-1237; Airspace Docket No. 08-AWA-5]

RIN 2120-AA66

Proposed Modification of the Atlanta Class B Airspace Area; GA

AGENCY: Federal Aviation Administration (FAA), DOT.

ACTION: Notice of proposed rulemaking (NPRM).

SUMMARY: This action proposes to modify the Atlanta, GA, Class B airspace area to ensure the containment of aircraft within Class B airspace, reduce controller workload and enhance safety in the Atlanta, GA, terminal area.

DATES: Comments must be received on or before April 3, 2012.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2011-1237 and Airspace Docket No. 08-AWA-1, at the beginning of your comments. You may also submit comments through the Internet at http://www.regulations.gov.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2011-1237 and Airspace Docket No. 08-AWA-5) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to Docket Nos. FAA-2011-1237 and Airspace Docket No. 08-AWA-5.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9 a.m. and 5 p.m., Monday through Friday, except Federal holidays. An informal docket may also be examined during normal business hours at the office of the Eastern Service Center, Federal Aviation Administration, Room 210, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

Background

The primary purpose of Class B airspace is to reduce the potential for midair collisions in the airspace surrounding airports with high density air traffic operations by providing an area in which all aircraft are subject to certain operating rules and equipment requirements. FAA directives require Class B airspace areas to be designed to contain all instrument procedures and that air traffic controllers vector aircraft as appropriate to remain within Class B airspace after entry. Controllers must inform the aircraft when leaving and entering Class B airspace if it becomes necessary to extend the flight path outside Class B airspace for spacing. However, in the interest of safety, FAA policy dictates that such extensions be the exception rather than the rule.

Atlanta Class B Airspace History

On May 21, 1970, the FAA issued a final rule that established the Atlanta, GA, Terminal Control Area (TCA) with an effective date of June 25, 1970 (35 FR 7784). The TCA was modified several times during the 1970s to accommodate revised instrument procedures, the addition of a fourth parallel runway, and to ensure that the flight paths of large turbine-powered aircraft remain within the designated airspace. In 1993, as part of the Airspace Reclassification Final Rule (56 FR 65638), the term “terminal control area” was replaced by “Class B airspace area.”

A fifth parallel runway became operational at the Hartsfield-Jackson Atlanta International Airport (ATL) in May 2006, enabling the implementation of Simultaneous Triple ILS operations as well as triple departure procedures. The new procedures added additional traffic and complexity to the ATL air traffic operation and the FAA found that not all aircraft could be contained within Class B airspace due to the existing design. To address this situation, the FAA issued a final rule in October 2006 (71 FR 60419) that lowered the floor of the Atlanta Class B airspace area from 6,000 feet MSL to 5,000 feet MSL within two small areas (approximately 9 NM by 5 NM), one to the east and one to the west of the airport and between the 20 NM and 25 NM arcs of the Atlanta VORTAC. The rule, however, was an interim measure that didn't address all issues with the Class B design, and the FAA noted its intent to conduct a thorough review of the Atlanta Class B airspace design for possible future revisions. Except for the changes implemented in the 2006 rule, noted above, the configuration of the Atlanta Class B airspace area has remained largely unchanged since the 1970s.

Need for Modification

Traffic at ATL has increased dramatically in the years since the airspace was originally designed. The airport has expanded from three parallel runways in the early 1980s to five parallel runways today. The operation has changed from a large contingent of propeller-driven aircraft to an almost all jet fleet today with a varied mix of aircraft types in the terminal area. The operational complexity at ATL also has increased dramatically with the addition of the fifth runway and the introduction of advanced navigation procedures (e.g., RNAV SIDs and STARs), which necessitates additional Class B airspace and more stringent procedures. In addition, there is a renewed safety emphasis on retaining all large turbine-powered aircraft within the Class B airspace to avoid mixing with other aircraft that are not in contact with ATC. The Atlanta operation has outgrown the 1970s airspace design and air traffic controllers often must vector aircraft on inefficient routes in an effort to keep them within Class B airspace. Keeping large jet aircraft within the existing Atlanta Class B airspace is not always possible. For example, arrivals are sometimes required to extend the downwind leg beyond the lateral limits of the existing Class B airspace before turning onto final due to traffic volume. On hot summer days, heavy aircraft on departure are sometimes unable to climb fast enough to stay above the rising floor of the Class B airspace.

Clarification of Terms

A review of comments received in response to the informal airspace meetings (see below) revealed some confusion over the meaning or application of several terms that apply to published VFR routes. Frequently, the terms are incorrectly used interchangeably. Since the terms are used in this NPRM, the following information is provided to explain the purpose of each type of route.

A VFR Corridor is airspace through a Class B airspace area with defined vertical and lateral boundaries in which aircraft may operate without an ATC clearance or communication with ATC. The corridor is, in effect, a “tunnel” through Class B airspace. Due to heavy traffic volume and procedures necessary to manage the flow of traffic, it has not been possible to incorporate VFR corridors in Class B airspace areas in recent years.

A VFR Flyway is a general flight path not defined as a specific course for use by pilots in planning flights into, out of, through or near complex terminal airspace to avoid Class B airspace. An ATC clearance is not required to fly these routes. Where established, VFR flyways are depicted on the reverse side of the VFR Terminal Area Chart (TAC), commonly referred to as “Class B charts.” They are designed to assist pilots in planning flights under or around busy Class B airspace without actually entering Class B airspace.

A Class B airspace VFR transition route is a route depicted on a TAC to accommodate VFR traffic transiting through a specific Class B airspace area. The route includes a specific flight course and specific ATC-assigned altitudes. Pilots must obtain an ATC clearance prior to entering Class B airspace on the route.

See the Aeronautical Information Manual (AIM) for more information about these routes.

Pre-NPRM Public Input

In October 2008, the FAA took action to form an Ad Hoc Committee to develop recommendations for the FAA to consider in designing a proposed modification to the Atlanta Class B airspace area. The Georgia Department of Transportation (GDOT) Aviation Programs Office headed the group, which consisted of representatives from airports that underlie the Atlanta Class B airspace area, national aviation organizations, and the ballooning and soaring communities. The Committee met three times between February 2009 and April 2009.

As announced in the Federal Register of December 4, 2009 (74 FR 63818), informal airspace meetings were held on February 22, 2010, in Kennesaw, GA; on February 25, 2010, in Covington, GA; on March 1, 2010, in Chamblee, GA; and on March 4, 2010, at Peachtree City Falcon Field, Peachtree City, GA. The purpose of the meetings was to provide airspace users an opportunity to present their views and suggestions regarding modifications to the Atlanta Class B airspace area.

Discussion of Ad Hoc Committee Recommendations and Comments

As a starting point for discussions, a preliminary Class B design was presented to the Ad Hoc Committee for review. In general, the preliminary design consisted of lower Class B floors within a reduced radius of 30 NM from the ATL VORTAC as opposed to the current 35 NM radius. The preliminary design retained the extensions on the southwest and southeast corners as well as proposing new extensions on the northwest and northeast corners that extended out to a 40 NM radius in those areas. The Ad Hoc Committee submitted several recommendations to the FAA regarding the proposed modifications of the Atlanta Class B airspace area.

The Committee raised three concerns related to the proposed lower Class B airspace floors, particularly in the airspace directly underlying the final approach courses at ATL. First, the Committee believed there would be increased congestion at lower altitudes due to VFR traffic trying to avoid flying in the Class B airspace area and leaving less room for VFR aircraft to transition the airspace. The Committee recommended the FAA establish transition routes for north and southbound traffic to assist VFR aircraft navigating through the area and to mitigate congestion below the Class B floor.

The FAA understands the need for safe routes for VFR aircraft to transition through, around, and under the Class B airspace. The FAA originally considered proposing to lower the Class B floor in the airspace underlying the final approach courses at ATL from the current 3,500 feet MSL to 2,500 feet, which is the minimum vectoring altitude (MVA) in that area. Instead, the FAA proposed to set the floor at 3,000 feet because that altitude would contain all operations that are not currently being contained with the existing 3,500 foot floor. Aircraft executing a missed approach or a go-around from the southern-most runway are climbed to 3,000 feet. This altitude is needed to deconflict traffic with other aircraft at 4,000 feet. Aircraft at 3,000 feet routinely exit the existing Class B airspace, which conflicts with FAA procedures. The procedures cannot be changed due to the lack of available airspace to contain missed approaches.

The 3,000 foot Class B floor provides adequate airspace for aircraft to safely transition under the Class B airspace and still maintain the required terrain and obstruction clearance. The FAA intends to establish VFR Waypoints and Reporting Points to assist VFR pilot navigation. The new VFR waypoints would be located over areas that can be easily identified visually. The FAA also plans to establish VFR routes that can be used to circumnavigate the Class B airspace when necessary to avoid aircraft operating within the Class B airspace. However, these routes would also be useful as a predetermined route through the Class B airspace when operations permit. In addition to these new VFR waypoints, the FAA intends to establish RNAV T-Routes within Class B airspace for transitioning over the top of ATL. The T-routes would be part of the low altitude IFR enroute structure, but could also serve as VFR transition routes through the Class B for suitably equipped aircraft. Since the routes would enter Class B airspace, an ATC clearance would be required to use the T-routes. Typically, VFR aircraft could be assigned either 4,500 feet or 5,500 feet when transitioning along these routes. The new T-Routes would also make transitioning of IFR aircraft more safe and efficient. The VFR Flyway Planning Chart on the back of the Atlanta Terminal Area Chart would be updated to reflect the new routes and VFR waypoints. However, the FAA does not plan to establish a VFR Flyway or VFR corridor over the top of ATL because that airspace is too congested to accommodate such a flyway or corridor.

Second, the Committee was concerned that the lower floors would result in commercial airline traffic flying at lower altitudes in closer proximity to the satellite airports in the ATL area. Therefore, the Committee contended that lower floors could decrease the efficiency of the satellite airports and create IFR delays for arriving and departing traffic at the satellite airports.

The FAA looked at the Class B floors over the satellite airports. With the opening of the fifth runway at ATL, departure procedures had to be modified to reduce delays. One procedural modification was to separate the prop and turboprop traffic from traffic lanes used by faster jet aircraft. This resulted in more aircraft being turned north and south off of ATL. The routes that these aircraft take are already in existence and aircraft are already flying in the vicinity of Fulton county Airport-Brown Field (FTY) and Dekalb-Peachtree (PDK) airports, but below the floor of the existing Class B airspace. Lowering the floor of the Class B airspace over these airports would only ensure that this existing ATL departure traffic is contained within the Class B airspace as required by FAA directives. The change would not affect IFR traffic flows at either FTY or PDK. Also, the lower floor would not impose a lower initial altitude for aircraft departing these airports. Today, all aircraft departing all satellite airports are initially assigned 3,000 feet. Aircraft are then normally assigned 5,000 feet, or higher, upon initial contact with departure control. The assignment of higher altitudes is not dependent on the Class B airspace, but rather on the internal IFR airspace delegations within Atlanta TRACON (A80). This practice would not change because of the proposed modifications of the Class B airspace. There would be no expected increase in delays at satellite airports due to the lowering of the Class B floor.

Regarding satellite airport VFR traffic, it is true that lowering the floor of the Class B airspace may affect altitudes that VFR aircraft can initially climb to and still remain outside of the proposed Class B airspace. For example, aircraft departing southbound from Atlanta Regional Airport-Falcon Field (FFC), Newnan Coweta County (CCO), Clayton County-Tara Field (4A7) and Griffin-Spalding County (6A2) airports currently are able to climb to about 7,500 feet and still remain outside of the Class B airspace. Lowering the floor would have an impact VFR aircraft departing those airports in that they would have to remain below 6,000 feet or 5,000 feet until clear of the Class B airspace boundary, or request Class B service from A80. With today's Class B airspace configuration, large turbine-powered aircraft are allowed to mix with smaller aircraft departing the airports listed above. Containing large turbine-powered aircraft within Class B airspace, in compliance with FAA procedures, would increase safety in the area by minimizing the potential mixing of controlled and uncontrolled aircraft.

The Committee's third concern regarding the lower floors was the potential increase in noise complaints from surrounding communities. The FAA understands the concerns of the surrounding communities concerning noise and the effect of lowering the base of the Class B airspace. However, the Class B airspace changes under consideration are not associated with any changes of flight path or altitude. The FAA does not intend to change any existing instrument procedures in conjunction with the proposed Class B changes. As noted above, changes in the Class B airspace are being proposed purely to ensure that existing instrument procedures are contained within the designated Class B airspace. The FAA believes that the noise concerns result from the perception that aircraft would be flying lower if the Class B floor is lowered. Aircraft are already flying in those areas, and at those altitudes, utilizing current FAA procedures, but these aircraft are not presently contained within Class B airspace as required by FAA policy. This proposal is subject to an environmental analysis prior to any FAA final regulatory action.

The Committee recommended that the FAA establish visual references to mark the Class B boundaries to assist VFR aircraft that have limited navigation equipment. The FAA agrees and would establish VFR Reporting Points at key points around the Class B airspace area to aid in navigation through and around the area, if this rule is adopted.

The Committee recommended that the current 8,000 feet and 6,000 feet Class B airspace floors over PDK be retained, or kept as close to the current altitudes as possible, in order to maintain efficient operations at PDK.

Due to the opening of the fifth runway at ATL, departure procedures had to be modified to reduce delays, as described above. Aircraft are already flying in the vicinity of PDK airport. Lowering the floor of the Class B airspace over the satellite airports would only contain the existing ATL departure traffic within the Class B airspace; it would not affect IFR traffic flows at PDK.

The Committee also recommended that the Class B floor over Covington Municipal Airport (9A1) not be lowered from 8,000 feet to 4,000 feet as proposed, but that the airport be excluded (i.e., “cut out”) from the Class B airspace. After reviewing this recommendation, the FAA found that the airspace over 9A1 could be excluded without an adverse impact to the ATL operation. The proposed Class B airspace boundary has been revised so that 9A1 would be completely outside of Class B airspace.

In addition to the above recommendations, the Ad Hoc Committee report listed a number of other concerns about the preliminary design that were not directly tied to a recommendation. These concerns are discussed below.

The Committee stated that lower IFR departure altitudes could force faster aircraft to mix with slower aircraft.

The proposed design of the Class B would not result in lower IFR departure altitudes. IFR traffic flows would be the same with the proposed Class B airspace design as they are today. The initial departure altitude has been 3,000 feet for all satellite airports since the mid 1970s. After initial departure, aircraft are normally assigned 5,000 feet until they are clear of other traffic landing at ATL. IFR aircraft are not restricted by the Class B airspace, but rather by other IFR traffic. Once the conflicting traffic is clear, aircraft are routinely cleared to climb into/through the Atlanta Class B airspace. There remains the possibility of faster and slower aircraft mixing at low altitudes outside of the Class B airspace. This, however, is not new and is more a function of satellite airport proximity to the ATL airport than of the Class B airspace.

The Committee held that the FAA had not studied the effect of the proposed Class B design on VFR traffic flow.

There are two areas where VFR flights would be most affected by the proposed change in the Class B airspace. The first area is below the new proposed 5,000 foot MSL shelf north of ATL. In this area, pilots would have to choose between flying at a lower altitude, circumnavigating the area to the north, or requesting Class B service from A80. Likewise, the area that currently underlies the final approach courses for ATL is proposed to be lowered to 3,000 feet MSL. Again, pilots must choose between flying lower, circumnavigating the area, or requesting Class B service from A80 to transition the area. Large turbine powered aircraft are routinely operating in both of these areas. Class B airspace is necessary in these areas to ensure the highest level of safety possible in the Atlanta terminal area.

The Committee raised the issue of flight restrictions over the Atlanta Motor Speedway in Hampton, GA, during NASCAR races. The Committee believed that lowering the Class B floor from 8,000 feet to 6,000 feet in that area would cause compression of traffic when a race was in progress.

The flight restriction, currently described in FDC NOTAM number 9/5151, prohibits flight within a 3 NM radius of the track, up to and including 3,000 feet AGL, during the period from one hour before until one hour after the end of the event. While events subject to the restrictions of this NOTAM occur once a year at the Atlanta Motor Speedway, the restriction does not apply to other Speedway race events. Even when the restriction is in effect, the FAA does not believe that circumnavigating the area would be a significant impact to aircraft operating in the vicinity. As stated in the NOTAM, the restriction does not apply to aircraft authorized by, and in contact with, ATC for operational or safety of flight purposes. Furthermore, aircraft may operate in the restricted airspace to the extent necessary to arrive at or depart from an airport using standard air traffic control procedures.

The Committee stated that compressing aircraft lower to the ground as a result of lower Class B floors places aircraft closer to obstacles and terrain, which limits the time pilots have to respond to a mechanical emergency. Pilots must plan their flights to take these potential situations into account. Today, aircraft routinely operate at or below 2,400 feet while transitioning under the existing Class B airspace. This altitude is 600 feet below the floor of the proposed Class B airspace in some areas. This altitude has routinely provided safe obstacle and terrain clearance for aircraft transitioning under the Class B airspace.

Instead of lowering the Class B floor, one Committee member suggested that ATC should advise aircraft with poor climb performance that they are leaving the Class B airspace or publish a climb gradient that will allow aircraft to remain within the existing Class B airspace.

The need for lower Class B airspace floors to the north and to the south of ATL is based on the requirement to fully contain existing instrument procedures within Class B airspace. These procedures are not fully contained by today's Class B airspace configuration. Due to internal airspace delegations designed to segregate slower prop and turboprop traffic from turbojet traffic, prop and turboprop aircraft must fly at lower altitudes out to 20NM before they can initiate a climb. This allows enough room for turbojet aircraft to climb above the prop and turboprop aircraft. Additionally, merely advising the aircraft that they are leaving the Class B airspace is not an option. Retaining these aircraft within the Class B airspace is required by FAA policy and is a top safety issue. Since the existing airspace is inadequate, the Class B design needs to be modified.

The Committee wrote that the new proposed Class B extensions on the northwest and northeast corners (referred to by commenters as the “ears” or “wings”), as well as the existing southwest and southeast extensions, would be difficult to navigate around and that they are unnecessary. The FAA reevaluated this feature and concluded that all four “ears” can be deleted from the proposed design.

The Committee believed that the lower Class B floors could impact sailplane operations at the Monroe-Walton County Airport (D73) and the West Georgia Regional Airport-O. V. Gray Field (CTJ). It contended that the lower inbound traffic to ATL from the east and the west would infringe on airspace being used outside of the Class B airspace by sailplanes.

Arrival traffic to ATL does not typically fly in the vicinity of those airports. ATL inbounds are routed from the four corners, northeast, northwest, southeast, and southwest. These arrival corridors are well clear of the two airports and are not changing due to the proposed the Class B airspace modifications.

The Ad Hoc Committee report also included an alternative Class B design for FAA's consideration. In part, this design consisted of higher Class B floors than those proposed by the FAA, such as retaining the current 8,000 foot floor north and south of ATL. Also, a large portion of the Class B would have a 6,000 foot floor. A block of Class B airspace would be aligned along the extended centerlines, to the east and west of the airport, with a floor of 2,500 feet from 7 NM to 12 NM, and a base of 3,500 feet MSL from 12 NM out to 20 NM. Surrounding this section on all sides, the Class B floor would be 5,000 feet MSL. The 5,000 foot area would provide for westbound VFR traffic at 4,500 feet MSL north of the airport and eastbound VFR traffic at 3,500 feet MSL south of the airport.

The Committee's proposal would require changing ATC procedures to fit the proposed alternate airspace, instead of changing the airspace to fit the procedures. These procedures, adopted over many years, have proven to be the most efficient for handling the high volume of traffic serving ATL. The main points of the alternative design in the Committee's report are discussed below.

1. The FAA does not find that the 6,000 foot area would be adequate to contain all large turbine powered aircraft departing ATL. It does not allow enough room for departures to clear internal airspace boundaries that protect ATL jet departures from satellite airport departures. Additionally, on the southeast and southwest corners of the airspace, it does not allow ATL arrival aircraft to get low enough to feed the south final.

2. Raising the Class B airspace floor over the downtown area and the stadiums to 5,000 feet to allow traffic to overfly the FTY Class D airspace area and (when NOTAM 9/5151 is in effect) would be problematic. The current floor over the downtown area would not change in the FAA's proposed Class B design. The floor of the Class B airspace over the downtown area has been 3,500 feet since at least the mid-1970s and has provided adequate space for aircraft to transition that airspace. A 5,000-foot floor would not allow departures or missed approach aircraft to be contained within the Class B airspace.

3. The Committee contended that turboprop departures should not be turned until they can comply with the 5,000 foot floor. This is not operationally feasible because it would require the turboprops to be blended back in with the jets on departure and would greatly reduce departure capacity at ATL.

4. The Committee suggested that ATL missed approaches should be flown as departures unless an emergency exists. This alternative procedure would not allow ATC enough options. The rules that apply to missed approaches in a terminal environment, where multiple runways are being used simultaneously for arrivals and departures, are very complex. They require ATC to retain the maximum flexibility in the operation to ensure that we can effectively separate missed approach and unplanned go-arounds from departing aircraft. Sometimes, aircraft will be able to proceed outbound on the departure tracks. Other times aircraft must be turned immediately to avoid aircraft departing simultaneously from a parallel runway.

5. The Committee also contended that long, low, finals are not needed. Currently, aircraft are turned on to parallel finals at ATL between 3,500 feet and 7,000 feet MSL. FAA Order JO 7110.65 requires that aircraft being turned onto parallel finals be separated by 3 miles longitudinal or 1,000 feet vertical separation until they are established on final approach course. It is more efficient to turn the aircraft on final with vertical separation. Raising the altitude that aircraft are turned on to parallel finals would result in even longer finals and would require Class B extensions beyond 30NM. The FAA has been able to reduce the size of the proposed Class B on the east and west sides to less than 30 NM based on the existing procedures.

Discussion of Informal Airspace Meeting Comments

Over 150 comments were received in response to the informal airspace meetings. Two commenters wrote in support of the proposal, while the remaining comments opposed various aspects of the proposed Class B modifications.

One commenter contended that the proposed Class B changes are premature since ATL flights declined in 2009 and could continue to do so over the next decade due to the U.S. economic downturn. According to the commenter, the current Class B should be left in place and reviewed again in five or ten years.

While economic swings may happen periodically, the volume of traffic and passenger boardings at ATL remain extremely high. Passenger boardings at ATL declined by just over three percent from 2008 to 2009, but even so, boardings exceeded 42 million passengers (over eight times the threshold to qualify for Class B airspace). Calendar year 2010 data show a two percent rise in boardings from the previous year. Similarly, airport operations declined slightly from 2008 to 2009, but still totaled over 970,000 operations (more than three times the number to qualify for Class B airspace). The proposed airspace changes are necessary to ensure safety of flight. Nevertheless, the FAA would continue to periodically evaluate the airspace design and may propose changes in the future if circumstances dictate.

Some commenters suggested that the ATL Class B airspace should be set up like that in Seattle, WA, but aligned along ATL's east/west approaches and departures with fixes outbound so traffic is strung out over a larger area east- and west-bound. They contended that this alignment would leave the northern satellite airports free to expedite their arrivals/departures; while ATL missed approaches could fly straight out.

Each Class B airspace area design is individually tailored to fit the operational needs of the primary airport. Atlanta's airspace system could not be set up like Seattle due to the many differences between the two operations. West coast facilities are able to take advantage of the fact that the majority of the traffic arrives from the same direction (east) while Atlanta traffic arrives from all directions. The Seattle Class B design is influenced by high terrain to the east and northwest as well as special use airspace northwest and southwest of the area. Additionally, the Atlanta operation is much larger than Seattle, involving five runways versus three, and accommodating over three times the number of airport operations. Seattle's Class B configuration simply would not provide sufficient airspace to contain Atlanta's operations. Regarding missed approaches, ATL missed approach aircraft cannot always fly straight out because aircraft departing from other runways also occupy the same airspace. In the FAA's proposed design, the size of the Atlanta Class B would be reduced so that all Class B airspace beyond 30 NM would be eliminated.

One commenter wrote that the proposed “wings” in the four quadrants should be retained because eliminating the wings exposes arriving aircraft below 10,000 feet to transitory nonparticipating aircraft circumnavigating the Class B airspace.

The FAA has reevaluated the proposed Class B extensions. The existing and proposed “wings” extended beyond the 30 NM Class B lateral limit as provided in FAA Order JO 7400.2H. The vertical and lateral limits of the area are designed to contain all instrument procedures within Class B airspace. In this proposal, the outer limits of the proposed Class B have been reduced to a maximum of 30 NM from ATL to meet FAA policy and to address Ad Hoc Committee comments that the “wings” should be reduced or eliminated.

One commenter contended that aircraft will be unable to identify the lateral boundaries on the “45s” (Note: the “45s” refers to those Class B boundary lines currently described by the ATL VORTAC 323°, 031°, 138° and 218° radials) because they would no longer be based on ATL VORTAC radials. In addition, the east and west Class B boundaries would be difficult to identify because they are defined by longitude lines rather than DME.

The FAA has found that, in the current Class B design, some of the boundaries that are defined by radials and DME are the same areas where aircraft are consistently leaving the Class B airspace. Due to the position of the ATL VORTAC, if radials were used to describe the proposed realigned “45s,” it would result in the designation of more Class B airspace than is needed to contain current operations. An increasing number of general and business aviation users are now RNAV or RNAV GPS equipped. Additionally, pilots may request vectors to remain clear of Class B airspace. The Ad Hoc Committee concurred with the use of GPS in defining certain area boundaries.

Many commenters were concerned about the perceived impacts of the proposed changes on VFR operations in the Atlanta terminal area. It was stated that the FAA did not fully determine the impact on VFR aircraft flying beneath the Class B airspace. In response, a new study was done, which found that, of the 7,123 flights observed in the vicinity of PDK, 141 were operating above 5,000 feet MSL. With almost 98% of the aircraft flying in that area already operating below 5,000 feet MSL, lowering the floor of Class B airspace to 5,000 feet MSL would not significantly impact VFR operations.

However, many commenters echoed concerns also raised by the Ad Hoc Committee that the lower Class B floors would cause the compression of VFR traffic beneath the Class B and/or require pilots to fly further to deviate around the Class B airspace. Commenters said that the changes could increase the potential for midair collisions, reduce the airspace available for avoiding Class D airspace areas and obstructions in the ATL terminal area, and leave pilots with less time and altitude to react to inflight emergency situations or locate a suitable emergency landing site.

The FAA acknowledges these concerns and recognizes that compression could occur for some VFR operations. However, with the existing Class B configuration, VFR aircraft that are not in communication with ATC are currently mixing with turbine-powered ATL traffic. The FAA weighed the impacts to VFR pilots flying lower or choosing to circumnavigate the Class B airspace against the safety of having large turbine-powered aircraft flying at altitudes that are not contained within Class B airspace. Considering the heavy concentration of operations by all types of aircraft in the Atlanta terminal area, we believe the operation of large turbine-powered aircraft outside the Class B airspace poses a greater safety risk. Lowering the floor of the Class B airspace increases safety by segregating large turbine-powered aircraft from aircraft that may not be in contact with ATC. As always, it is the pilot's prerogative and responsibility to evaluate these factors and determine the safest course of action for any given flight.

One commenter opposed the lowering of the Class B floor in the vicinity of PDK from 8,000 feet to 5,000 feet because it could cause compression of VFR aircraft given the fact that the PDK Class D airspace ceiling is 3,500 feet.

The existing Class B floor above PDK is 8,000 feet, while immediately to the east and south of PDK, the existing floor is 6,000 feet. Under the proposed Class B changes, the floor of Class B airspace above the southern half of the PDK Class D airspace would be 5,000 feet; to the northeast, the floor would be 6,000 feet; and to the northwest, the floor would be 7,000 feet. This would still give pilots room to navigate north of the PDK airport eastbound at 5,500 feet. It is true that the proposed change would eliminate the 5,500 foot VFR altitude over the southern half of the PDK Class D airspace. This may require the pilot to make a choice to fly eastbound below 3,000 feet AGL or to fly further north in order to fly above 3,000 feet AGL and below the Class B airspace.

Other commenters argued that the proposed 3,000 foot floor on the east and west sides of the area would make it more difficult for VFR aircraft to navigate around the city and get from north-to-south and vice versa. The commenters asked that more waypoint-driven VFR routes be developed around the city, and that a “corridor” used by A80 to route aircraft over ATL be publicized and added to the Sectional Chart and be made a more routine choice for VFR pilots.

Regarding the proposed 3,000 foot floor, the existing Class B floor in those areas is 3,500 feet MSL. Today, aircraft landing at ATL are intercepting the southern final approach course farther from the airport than needed to meet the present Class B separation criteria. During Triple ILS approaches, aircraft are required to maintain 1,000 feet vertical separation until established on the final approach courses. This mandates an aircraft final approach interception point that is two NM farther from the airport than would be required if the Class B floor was lowered to 3,000 feet. The proposed 3,000-foot floor would allow aircraft to be turned onto the final approach course closer to the airport which would increase efficiency, save fuel and reduce emissions. Additionally, lowering the floor to 3,000 feet would allow Visual Approaches to be conducted more often, which is the most efficient arrival operation at ATL. The proposed 3,000 foot floor would produce a safer airspace environment for aircraft arriving at the world's busiest airport. Flying VFR under the lowest floor of the Class B airspace always requires the pilot in command to evaluate traffic that may be flying overhead within the Class B as well as terrain, obstructions and emergency landing options and determine the best and safest course of action for the planned flight. Regarding waypoint-driven VFR routes, the Atlanta TAC would be revised to contain VFR flyways as well as GPS intersections/waypoints to assist VFR pilot navigation.

In regard to the comment about A80's “corridor” over the top of Atlanta, this is not the same thing as a “VFR corridor” as described in the Clarification of Terms section, above. The A80 Satellite Sectors are assigned airspace within the Class B that can be used to transition aircraft north and south. This airspace delegation is adjusted based on the operational runway configuration in use at ATL. It is a 6 NM wide north/south airspace area that overlies the approach side of the arrival runways. Its primary use is to route IFR aircraft departing airports north of VOR Federal airway V-18 that are filed to destinations south of the Atlanta area. It is also used when operationally advantageous to route some aircraft northbound that are landing at airports to the north and within A80's airspace. This small, high traffic density “corridor,” encompassing 5,000 to 6,000 feet, is used by air traffic controllers to efficiently flow and meter Atlanta satellite airport aircraft. Since the location of the “corridor” shifts based on the direction of operations at ATL, it would be impractical to publish the locations on aeronautical charts. Clearance into the area is based on traffic and the workload of the Satellite Controllers. It is intended for controller operational use. Pilots may request use of the “corridor” and controllers may approve the request when appropriate. VFR aircraft flying in this airspace are required to obtain a Class B clearance.

Several commenters said that the FAA should have considered establishing VFR corridors through the Class B airspace to offset the issue of flying beneath the lower Class B floors. The FAA considered a VFR corridor, however, since a VFR corridor permits flight through Class B airspace without an ATC clearance or radio communications requirements, the idea was not adopted due to the high volume of traffic, the amount of airspace required to create a useful corridor, and the potential effects on safety considering weather and missed approach procedures.

One commenter requested that the FAA establish “traffic dependent routes” that could be used to allow more direct routes to FTY and PDK when traffic, time and weather conditions permit. “Traffic dependent routes” are currently being discussed with A80 separately from this Class B proposal process. Class B airspace would have no effect on the implementation of “traffic dependent routes.”

One commenter noted a lack of IFR arrival routes into the satellite airports for use by smaller, but technically advanced, aircraft. Currently, the DIFFI ONE, JRAMS TWO (RNAV) and the TRBOW EIGHT Standard Terminal Arrivals (STARs) are in effect. These STARs were designed to facilitate all types of aircraft inbound from the south of Atlanta that have filed to airports north of Atlanta that are within A80's airspace. It is important to note that these STARs are also designed to keep aircraft that are not landing at the Atlanta Airport safely outside of the Atlanta base leg arrival traffic as well as Atlanta departing traffic.

Several commenters suggested that lowering the Class B floors would result in increased IFR departure delays from satellite airports such as FTY and PDK. The existence of Class B airspace has no impact on delays from these airports. The determining factors for delays are normally traffic volume and weather. No additional IFR aircraft would be introduced into the airspace over these airports, so the traffic that flows through the affected airspace is already there. Where aircraft fly today in that area is where they would fly if the new airspace is implemented. The only difference is that, if the new Class B is implemented, those aircraft would be contained within the Class B airspace. IFR aircraft departing from satellite airports would not be artificially held down due to a change in the floor of the Class B airspace. Any IFR delays experienced by the satellite airports should be of the same frequency and magnitude as those experienced today.

There is also a perception that IFR aircraft departing satellite airports are kept out of the Class B airspace. This is not the case. With the proposed Class B airspace, aircraft departing satellite airports would be worked within Class B airspace much more often. For example, a turbojet aircraft departing Runway 8 at FTY going eastbound is normally assigned 5,000 feet MSL shortly after takeoff. Today, that aircraft is outside Class B airspace. If the proposed Class B change is implemented, that same aircraft would still be assigned 5,000 feet but would be contained within Class B airspace.

A pilot who flies out of Gwinnett County Airport-Briscoe Field (LZU) (in comparing his current operations below the existing 6,000 foot floor, to the north of Atlanta) stated that if the Class B floor is lowered to 5,000 feet in that area, he could not legally fly VFR at 3,000 feet AGL. Aircraft operating below Class B airspace north of Atlanta may transition west bound at 4,500 feet MSL and eastbound at 3,500 feet MSL. These altitudes ensure that VFR aircraft are outside of Class B airspace and will remain above the FTY Class D airspace area. In this instance, there are at least three options for VFR aircraft:

1. Alter course to avoid the FTY, Dobbins ARB (MGE), DeKalb-Peachtree (PDK) and Cobb County-McCollum Field (RYY) Class D airspace areas at 3,500 MSL;

2. Ask for VFR Flight Following from A80. If VFR aircraft are receiving VFR Flight Following from A80, they can transit these Class D airspace areas without having to contact each individual control tower; or

3. Fly just north of an east/west line over PDK which will put VFR aircraft in an area where the lower limit of Class B is either 6,000 or 7,000 MSL. This airspace can be transited at 5,500 feet MSL while remaining outside the Class B and Class D airspace areas.

Another commenter said that extending the Class B airspace to LZU would require pilots on approach to Runway 7 to fly under the Class B shelf which could discourage access by light sport pilots and students. The commenter asked that the Class B boundary be moved farther from LZU to allow several miles for extended downwind. Since the existing Class B airspace extends out to 35 NM, today the LZU airport totally underlies a shelf of Class B airspace. With the proposed Class B design, LZU airport would be completely outside the Class B boundary. Aircraft approaching Runway 7 may still need to fly under a 6,000 foot Class B floor, but this floor is well above traffic pattern altitude and leaves plenty of room for aircraft to maneuver. The proposed design would be much less restrictive to LZU airport operations than the existing airspace.

One commenter believed that lowering the Class B floor would cause the existing VFR “corridors” to be within Class B airspace, thus defeating the purpose of the “corridors.” ATL does not have VFR corridors in either the current or proposed airspace design. The FAA believes that the commenter is referring, instead, to the charted VFR flyways depicted on the reverse side of the Atlanta VFR Terminal Area Chart. If the proposed airspace is implemented, these flyways will be amended based on the Class B changes. The FAA intends to develop additional flyways and to add GPS waypoints to the chart to assist pilots in navigating around the area. The FAA has no plans to develop a VFR corridor within the Atlanta Class B airspace area because the airspace is simply too congested.

Over 90 comments concerned impacts of the proposal on the communities around PDK airport, including: Increased noise and air pollution; lower property values and inability to sell homes; detrimental effect on local businesses; reduced tax revenues; and decreased quality of life. Noise complaints were a recurring issue because many commenters believed that lowering the floor of the Class B airspace would cause aircraft to fly lower over residential areas resulting in increased noise for their communities.

The FAA is not proposing to change existing air traffic procedures or flight paths, therefore, where aircraft fly today is where they would continue to fly if the proposed Class B changes are implemented. As stated previously, the reason for the proposed Class B change is to comply with agency policy to contain large turbine-powered aircraft arriving and departing ATL within Class B airspace on the routes they are currently flying. Therefore, the Class B changes should not cause an increase of over-flight noise from what residents are experiencing today.

Additionally, there is a perception that Hartsfield jets will begin flying lower over residential areas near PDK airport due to the lowering of the Class B floor. The FAA does not intend to change where aircraft fly today. ATL arrivals are operating in the area in question at 6,000 feet today and they will continue to operate at that altitude in the future. As previously discussed, the purpose of the proposed lowering of the Class B floor to 5,000 feet is to encompass ATL departures that are already operating in that area at 5,000 feet underneath the arrivals (but outside the confines of Class B airspace). ATL arrival flows could not be lowered from 6,000 feet to 5,000 feet without also lowering the departures down to 4,000 feet in order to be below the arrivals with proper separation. This would require the Class B floor to be even lower at 4,000 feet, but that is not being considered. Since arrivals and departures to both ATL and PDK will continue to operate at the same altitudes as they do today, none of the above impacts would result from the proposed Class B changes. In fact, the vast majority of noise being experienced by residents is caused by aircraft at or below 3,000 feet MSL when taking off from, or landing at, PDK. These aircraft will continue to fly at those altitudes regardless of any changes made to the Atlanta Class B airspace. The proposed Class B changes would have no effect, positive or negative, on noise generated by aircraft arriving or departing PDK. Therefore, lowering the floor of Class B airspace to 5,000 feet MSL would not have an appreciable effect on the amount of noise experienced by residents in the neighborhoods surrounding PDK.

Two commenters wrote that a new reliever airport should be constructed in the Atlanta area to support the growth of air travel and preclude the need for modifying the Class B airspace. This suggestion is outside the scope of this proposed rulemaking effort.

The Proposal

The FAA is proposing an amendment to Title 14, Code of Federal Regulations (14 CFR) part 71 to modify the Atlanta Class B airspace area. This action (depicted on the attached chart) proposes to lower the floor of Class B airspace to ensure the containment of large turbine-powered aircraft, reduce the outer lateral dimensions of the area for more efficient airspace utilization, and update the Atlanta airport geographic position to reflect the current airport survey information. The Class B airspace ceiling would remain at 12,500 feet MSL. The proposed revisions of the Atlanta Class B airspace area are outlined below.

Area A. Area A is the surface area that extends from the ground up to 12,500 feet MSL. The FAA is not proposing any changes to Area A.

Area B. A revised Area B is proposed consisting of that airspace extending upward from 2,500 feet MSL east and west of the Atlanta airport. The revised Area B would combine two existing subareas, B and C. The existing area B consists of a small segment of airspace, east of the ATL airport that extends upward from 2,100 feet MSL between the 7 and 9-mile radii of the Atlanta VORTAC. The existing Area C includes that airspace extending upward from 2,500 feet MSL, east and west of Atlanta airport between the 7 and 12 NM radius of the Atlanta VORTAC. With this change, the existing 2,100-foot floor of Class B airspace would be eliminated.

Area C. Area C is redefined to include that airspace that extends upward from 3,000 feet MSL (as described above, the existing Area C extends upward from 2,500 feet MSL). The new Area C would lower the existing floor of Class B airspace from 3,500 feet MSL to 3,000 feet MSL. Currently, Area D includes the airspace extending upward from 3,500 feet MSL. With this proposal, most of the airspace now in Area D would be incorporated into the new Area C (with the lower 3,000-foot floor).

Area D. This area would still consist of that airspace extending upward from 3,500 feet MSL. However, it would be significantly reduced in size due to the modification of Area C, described above. The revised Area D would include only that airspace bounded on the south by a line 4 miles north of and parallel to the Runway 08L/26R localizer course, and on the north by a line 8 miles north of and parallel to the above mentioned localizer courses. The revised Area D would be bounded on the west by long. 84°51′38″ W., and on the east by long. 84°00′32″ W.

Area E. This area would continue to include the airspace extending upward from 4,000 feet MSL, but it would be modified incorporating a small segment of Class B airspace, south of ATL that currently extends upward from 6,000 feet MSL. In addition, Area E would incorporate the two segments, currently extending upward from 5,000 feet MSL that were added by the October 2006 rule as discussed in the Background section, above.

Area F. Area F consists of that airspace extending upward from 5,000 feet MSL. The area currently is composed of four small segments, one southwest of ATL, one southeast and the two segments east and west of ATL that were designated in the October 2006 rule. These four areas would be removed from Area F and incorporated into other subareas with lower floors. The modified Area F would be located north of ATL within the area bounded on the south by a line 8 miles north of and parallel to the Runway 08L/26R localizer courses, and on the north by a line 13.5 miles north of and parallel to the above mentioned localizer courses. On the east and west, Area F would be bounded approximately by the 30 NM radius of the Atlanta VORTAC. The effect of this change would be to lower the floor of Class B airspace from 6,000 feet MSL to 5,000 feet MSL in the described area.

Area G. Area G contains that airspace extending upward from 6,000 feet MSL. Currently, Area G consists of airspace north of ATL, which would largely be incorporated into the revised Area F. The revised Area G would consist of the airspace bounded approximately between the Atlanta VORTAC 30 NM radius on the south, and a line 12 miles south of and parallel to the Runway 10/28 localizer courses.

Area H. This area consists of two airspace segments that extend upward from 5,000 feet MSL, one located southwest and one located southeast of ATL. The Area H segments would be bounded on the north by a line 12 miles south of and parallel to the Runway 10/28 localizer courses and on the south by the 30 NM radius of the Atlanta VORTAC, excluding the airspace within Area G as described above.

Area I. Area I is redefined to consist of the airspace extending upward from 7,000 feet MSL north of ATL. The revised Area I would be bounded on the north side by the 30 NM radius of the Atlanta VORTAC; on the south by a line 13.5 NM north of and parallel to the Runway 08L/26R localizer courses; on the east by a line from lat. 33°52′25″ N., long. 84°19′08″ W. direct to lat. 34°04′20″ N., long. 84°09′24″ W.; and on the west by a line from lat 33°53′28″ N., long. 84°36′07″ W. This change would lower the floor of Class B airspace from 8,000 feet MSL to 7,000 feet MSL in the defined area.

Area J. Area J would be a new subarea to describe that airspace extending upward from 6,000 feet MSL in two segments, one northwest and one northeast, of ATL. One segment would abut the west side of Area I and the other segment would abut the east side of Area I. The two segments would abut the northern boundary of Area F, with the 30 NM radius of the Atlanta VORTAC defining their northern edges. Area J would lower part of the Class B airspace floor from 8,000 feet MSL to 6,000 feet MSL in the northwest and northeast sections of the area.

If the above proposed changes are implemented, all existing Class B airspace that lies outside the 30 NM radius of the Atlanta VORTAC would be eliminated. These changes are being proposed to ensure the containment of large turbine-powered aircraft within Class B airspace as required by FAA directives to enhance safety and the efficient management of air traffic in the Atlanta, GA terminal area.

The geographic coordinates in this proposal are stated in degrees, minutes and seconds based on North American Datum 83.

Class B airspace areas are published in paragraph 3000 of FAA Order 7400.9V, dated August 9, 2011, and effective September 15, 2011, which is incorporated by reference in 14 CFR 71.1. The Class B airspace area proposed in this document would be published subsequently in the Order.

Paperwork Reduction Act

The Paperwork Reduction Act of 1995 (44 U.S.C. 3507(d)) requires that the FAA consider the impact of paperwork and other information collection burdens imposed on the public. We have determined that there is no new information collection requirement associated with this final rule.

Regulatory Evaluation Summary

Changes to Federal regulations must undergo several economic analyses. First, Executive Order 12866 and Executive Order 13563 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this proposed rule. The reasoning for this determination follows:

This action proposes to modify the Atlanta, GA, Class B airspace area to ensure the containment of aircraft within Class B airspace, reduce controller workload and enhance safety in the Atlanta, GA, terminal area. It lowers the Class B Airspace in some sections to encompass existing IFR traffic. Lowering the floor of the Class B airspace would increase safety by segregating large turbine-powered aircraft from aircraft that may not be in contact with ATC. It would also increase safety and reduce air traffic controller workload by reducing the number of radio communications that air traffic controllers must use to inform IFR aircraft when they are leaving and re-entering Class B airspace. This would reduce the amount of distraction that air traffic controllers face in issuing these communications and free radio time for more important control instructions. IFR traffic would not be rerouted as a result of this proposal.

The change may cause some VFR pilots to have to choose between flying lower, circumnavigating the area, or requesting Class B service from A80 to transition the area. This has the potential of increasing costs to VFR pilots if the alternative routes are longer, take more time and burn more fuel. The FAA believes, however, that there would be minimal impact to VFR aircraft operating where the Class B floor would be lowered. Where the floor would be lowered to 5,000 feet, an FAA sampling of VFR traffic found that 98 percent of 7123 VFR flights were already operating below 5,000 feet. Where the floor would be lowered to 3,000 feet, we believe there is sufficient airspace to allow safe flight below the Class B airspace. The minimum vectoring altitude (based in part on obstruction clearance) under most of the proposed 3,000-foot floor is 2,500 feet. VFR aircraft can and do fly safely at 2,000 feet under the existing Class B floor. Recognizing that some VFR aircraft may elect to circumnavigate instead of flying lower, it is only a short deviation in distance and time would be needed to place the aircraft beneath a higher Class B floor.

The FAA intends to take actions that would increase the alternatives available to VFR pilots. For instance, if this proposal is adopted, the FAA intends to establish VFR Waypoints and Reporting Points to assist VFR pilot navigation, and to establish VFR routes that can be used to circumnavigate the Class B airspace or used as a predetermined route through the Class B airspace when operations permit. In addition to these new VFR waypoints, the FAA would establish RNAV T-Routes within Class B airspace for transitioning over the top of ATL airports. These various alternatives should provide pilots with options that would assist them in navigating around or beneath the Class B and/or to request ATC clearance to cut through the Class B. The FAA believes that no more than a small percent of VFR traffic would choose to travel longer, less efficient or more costly routes because safe flight would still be possible beneath most of the Class B airspace, A80 would continue to provide VFR services to assist pilots in transiting the area, and only short course deviations would be needed if pilots decide to avoid the areas with lower Class B floors.

The FAA would have to update maps and charts to indicate the airspace modifications, but these documents are updated regularly. These modifications would be made within the normal updating process and therefore would not contribute to the cost of the rule since the updates would be as scheduled.

The proposed rule redefines Class B airspace boundaries to improve safety, would not require updating of materials outside the normal update cycle, would not require rerouting of IFR traffic, and is expected to possibly cause some VFR traffic to travel alternative routes which are not expected to be appreciably longer than with the current airspace design. The expected outcome would be a minimal impact with positive net benefits, and a regulatory evaluation was not prepared. The FAA requests comments with supporting justification about the FAA determination of minimal impact.

FAA has, therefore, determined that this proposed rule is not a “significant regulatory action” as defined in section 3(f) of Executive Order 12866, and is not “significant” as defined in DOT's Regulatory Policies and Procedures.

Initial Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The proposed rule is expected to improve safety by redefining Class B airspace boundaries and would impose only minimal costs because it would not require rerouting of IFR traffic, could possibly cause some VFR traffic to travel alternative routes that are not expected to be appreciably longer than with the current airspace design, and would not require updating of materials outside the normal update cycle. Therefore, the expected outcome would be a minimal economic impact on small entities affected by this rulemaking action.

Therefore, the FAA certifies this proposed rule, if promulgated, would not have a significant impact on a substantial number of small entities. The FAA solicits comments regarding this determination. Specifically, the FAA requests comments on whether the proposed rule creates any specific compliance costs unique to small entities. Please provide detailed economic analysis to support any cost claims. The FAA also invites comments regarding other small entity concerns with respect to the proposed rule.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such the protection of safety, and does not operate in a manner that excludes imports that meet this objective. The statute also requires consideration of international standards and, where appropriate, that they be the basis for U.S. standards. The FAA has assessed the potential effect of this proposed rule and determined that it would have only a domestic impact and therefore no affect on international trade

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This proposed rule does not contain such a mandate; therefore, the requirements of Title II of the Act do not apply.

Environmental Review

This proposal will be subject to an environmental analysis in accordance with FAA Order 1050.1E, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9V, Airspace Designations and Reporting Points, dated August 9, 2011, and effective September 15, 2011, is amended as follows:

Paragraph 3000 Subpart B—Class B Airspace

* * * * *

ASO GA B Atlanta, GA [Revised]

Hartsfield-Jackson Atlanta International Airport (Primary Airport)

(Lat. 33°38′12″ N., long. 84°25′41″ W.)

Atlanta VORTAC

(Lat. 33°37′45″ N., long. 84°26′06″ W.)

Boundaries

Area A. That airspace extending upward from the surface to and including 12,500 feet MSL, bounded on the east and west by a 7-mile radius of the Atlanta VORTAC, on the south by a line 4 miles south of and parallel to the Runway 10/28 localizer courses, and on the north by a line 4 miles north of and parallel to the Runway 08L/26R localizer courses; excluding the Atlanta Fulton County Airport-Brown Field, GA, Class D airspace area.

Area B. That airspace extending upward from 2,500 feet MSL to and including 12,500 feet MSL, bounded on the east and west by a 12-mile radius of the Atlanta VORTAC, on the south by a line 4 miles south of and parallel to the Runway 10/28 localizer courses, and on the north by a line 4 miles north of and parallel to the Runway 08L/26R localizer courses; excluding the Atlanta Fulton County Airport-Brown Field, GA, Class D airspace area and that airspace contained in Area A.

Area C. That airspace extending upward from 3,000 feet MSL to and including 12,500 feet MSL, bounded on the east by long. 84°00′32″ W., on the west by long. 84°51′38″ W., on the south by a line 8 miles south of and parallel to the Runway 10/28 localizer courses, and on the north by a line 4 miles north of and parallel to the Runway 08L/26R localizer courses; excluding that airspace contained in Areas A and B.

Area D. That airspace extending upward from 3,500 feet MSL to and including 12,500 feet MSL, bounded on the east by long. 84°00′32″ W., on the west by long. 84°51′38″ W., on the south by a line 4 miles north of and parallel to the Runway 08L/26R localizer courses, and on the north by a line 8 miles north of and parallel to the Runway 08L/26R localizer courses.

Area E. That airspace extending upward from 4,000 feet MSL to and including 12,500 feet MSL, bounded on the east by long. 83°54′04″ W., on the west by long. 84°57′41″ W., on the south by a line 12 miles south of and parallel to the Runway 10/28 localizer courses and on the north by a line 8 miles north of and parallel to the Runway 08L/26R localizer courses; excluding that airspace contained in Areas A, B, C, and D.

Area F. That airspace extending upward from 5,000 feet MSL to and including 12,500 feet MSL, within a 30-mile radius of the Atlanta VORTAC and bounded on the east by long. 83°54′04″ W., on the south by a line 8 miles north of and parallel to the Runway 08L/26R localizer courses, on the west by long. 84°57′41″ W., and on the north by a line 13.5 miles north of and parallel to the Runway 08L/26R localizer courses.

Area G. That airspace extending upward from 6,000 feet MSL to and including 12,500 feet MSL bounded on the north by a line 12 miles south of and parallel to the Runway 10/28 localizer courses, on the east by a line from lat. 33°25′20″ N., long. 84°16′49″ W. direct to lat. 33°15′33″ N., long. 84°01′55″ W., on the south by a 30-mile radius of the Atlanta VORTAC, and on the west by a line from lat. 33°25′25″ N., long. 84°33′32″ W. direct to lat. 33°18′26″ N., long. 84°42′56″ W., thence south via long. 84°42′56″ W.

Area H. That airspace extending upward from 5,000 feet MSL to and including 12,500 feet MSL, within a 30-mile radius of the Atlanta VORTAC south of a line 12 miles south of and parallel to the Runway 10/28 localizer courses, bounded on the west by long 84°57′41″ W. and on the east by long. 83°54′04″ W.; excluding that airspace within the lateral limits of area G.

Area I. That airspace extending upward from 7,000 feet MSL to and including 12,500 feet MSL bounded on the north by the 30-mile radius of the Atlanta VORTAC, on the east by a line from lat. 33°52′25″ N., long. 84°19′08″ W. direct to lat. 34°04′20″ N., long. 84°09′24″ W., on the south by a line 13.5 miles north of and parallel to the Runway 08L/26R localizer courses, and on the west by a line from lat. 33°52′28″ N., long. 84°36′07″ W. direct to lat. 34°01′40″ N., long. 84°47′55″ W.

Area J. That airspace extending upward from 6,000 feet MSL to and including 12,500 feet MSL within a 30-mile radius of the Atlanta VORTAC north of a line 13.5 miles north of and parallel to the Runway 08L/26R localizer courses; excluding that airspace within the lateral limits of area I.

Issued in Washington, DC, on January 19, 2012.
Gary A. Norek,
Acting Manager, Airspace, Regulations and ATC Procedures Group.

[FR Doc. 2012-2072 Filed 2-2-12; 8:45 am]

BILLING CODE 4910-13-P